DEPARTMENT OF HEALTH AND HUMAN SERVICES

National Institutes of Health

National Heart, Lung, and Blood Institute, Amended Notice of Meeting

Notice is hereby given of a change in the meeting of the National Heart, Lung, and Blood Institute Special Emphasis Panel, March 6, 2007, 1 p.m. to March 6, 2007, 3 p.m., National Institutes of Health, 6701 Rockledge Drive, Bethesda, MD 20892 which was published in the Federal Register on February 21, 2007, FR 07-761.

The meeting date was changed from March 6, 2007 to March 29, 2007 and the Panel name was changed from Research Demonstration and Dissemination Projects (R18) to Demonstration and Education Research (R18). The meeting is closed to the public.

Dated: February 26, 2007.
Anna Snouffer,
Acting Director, Office of Federal Advisory Committee Policy.

[FR Doc. 07-958 Filed 3-1-07; 8:45 am]

BILLING CODE 4140-01-M